DEPARTMENT OF JUSTICE

[CPCLO Order No. 001-2016]

Privacy Act of 1974; System of Records

AGENCY: Federal Bureau of Prisons, Department of Justice.

ACTION: Notice of a modified system of records.

SUMMARY: Pursuant to the Privacy Act of 1974, 5 U.S.C. 552a, and Office of Management and Budget (OMB) Circular No. A-130, notice is hereby given that the Federal Bureau of Prisons (Bureau, or BOP), Department of Justice (Department or DOJ) proposes to amend an existing Bureau system of records notice titled, “Inmate Central Records System, JUSTICE/BOP-005”, last modified at 77 FR 24982, on April 26 2012. The Bureau is amending routine use (i) to notify the public that the Bureau will be sharing federal inmate records with the U.S. Department of Veterans Affairs (VA) for matching purposes broader than are covered specifically under 38 U.S.C. 5106, Public Law 94-432.

DATES: In accordance with 5 U.S.C. 552a(e)(4) and (11), the public is given a 30-day period in which to comment. Therefore, please submit any comments by May 18, 2016.

ADDRESSES: The public, OMB, and Congress are invited to submit any comments to the Department of Justice, ATTN: Privacy Analyst, Office of Privacy and Civil Liberties, National Place Building, 1331 Pennsylvania Avenue NW., Suite 1000, Washington, DC 20530, or by facsimile at (202) 307-0693.

FOR FURTHER INFORMATION CONTACT: Wanda Hunt, Privacy Officer, Bureau of Prisons, 320 First Street NW., Washington, DC 20534, telephone (202) 514-6655.

SUPPLEMENTARY INFORMATION: The Bureau last published a modified Bureau of Prisons Privacy Act system of records notice on April 26, 2012, titled “Inmate Central Records System,” JUSTICE/BOP-005, to reflect a number of changes to the notice, including changes reflecting the overall modernization and technological changes of the Bureau's electronic information systems. This system of records is maintained by the Bureau to cover records relating to the care, classification, subsistence, protection, discipline, and programs of federal inmates.

In this modification, the Bureau proposes to modify an existing routine use, paragraph “(i)”, which was also modified pursuant to the April 26, 2012, system of records notice modification, to allow records from the Inmate Central Records System to be disclosed to any United States Veterans Administration entity or official for the purpose of matching those Bureau records against VA records to determine the eligibility or potential eligibility of Bureau inmates to receive benefits and/or services. The modification will enable BOP to more efficiently: (1) Identify inmates who may potentially be eligible for VA services upon release, (2) assist those inmates while in custody by providing to them information useful for seeking VA services upon release, and (3) evaluate which inmates may be in greater need than the general BOP population for certain BOP-provided inmate services while in custody. The modification will also remove the requirement stating “the VA is to erase the Bureau data after the match has been made” for two reasons. First, this erasure clause may unnecessarily force the VA to immediately erase data, creating difficulty for validation, auditing, and other legitimate purposes. Second, the VA is required to protect the records under the Privacy Act, and erase the data as required by the applicable disposition schedule approved by the National Archives. This system of records notice modification will not affect the existing Privacy Act exemption regulations claimed by the Attorney General.

In accordance with 5 U.S.C.552a(r), the Department has provided a report to OMB and Congress on this modified system of records.

Dated: April 8, 2016.
Erika Brown Lee,
Chief Privacy and Civil Liberties Officer, United States Department of Justice.

* * * * *

ROUTINE USES OF RECORDS MAINTAINED IN THE SYSTEM, INCLUDING CATEGORIES OF USERS AND THE PURPOSES OF SUCH USES:

(i) To the United States Department of Veterans Affairs (VA), for the purpose of matching the records against VA records to determine the eligibility or potential eligibility of Bureau inmates to receive veterans' benefits and/or services.

* * * * *

[FR Doc. 2016-08836 Filed 4-15-16; 8:45 am]

BILLING CODE 4410-05-P